DEPARTMENT OF COMMERCE

International Trade Administration

[C-580-837]

Certain Cut-to-Length Carbon-Quality Steel Plate From the Republic of Korea: Final Results of Countervailing Duty Administrative Review; 2019

AGENCY: Enforcement and Compliance, International Trade Administration, Department of Commerce.

SUMMARY: The Department of Commerce (Commerce) determines that countervailable subsidies are being provided to Hyundai Steel Co., Ltd. (Hyundai Steel), a producer and exporter of certain cut-to-length carbon-quality steel plate from the Republic of Korea (Korea). The period of review (POR) is January 1, 2019, through December 31, 2019.

DATES: Applicable January 3, 2022.

FOR FURTHER INFORMATION CONTACT: John Conniff or David Lindgren, AD/CVD Operations, Office III, Enforcement and Compliance, International Trade Administration, U.S. Department of Commerce, 1401 Constitution Avenue NW, Washington, DC 20230; telephone: (202) 482-1009 or (202) 482-1671.

SUPPLEMENTARY INFORMATION:

Background

Commerce published the Preliminary Results of this review on June 30, 2021.¹ On October 1, 2021, Commerce extended the final results of review to December 23, 2021.² Subsequently, on October 20, 2021, Commerce issued its post-preliminary analysis.³ For a description of the events that occurred since the Preliminary Results, see the Issues and Decision Memorandum.⁴

¹ See Certain Cut-To-Length Carbon-Quality Steel Plate from the Republic of Korea: Preliminary Results of Countervailing Duty Administrative Review; 2019, 86 FR 34718 (June 30, 2021) (Preliminary Results), and accompanying Preliminary Decision Memorandum (PDM).

² See Memorandum, “Extension of Deadline for Preliminary Results,” dated October 1, 2021.

³ See Memorandum, “Countervailing Duty Administrative Review of Certain Cut-To Length Carbon-Quality Steel Plate from the Republic of Korea; 2019: Post-Preliminary Analysis Memorandum,” dated October 19, 2021 (Post-Preliminary Analysis Memorandum).

⁴ See Memorandum, “Decision Memorandum for the Final Results of the Countervailing Duty Administrative Review, 2019: Certain Cut-To-Length Carbon-Quality Steel Plate from the Republic of Korea,” dated concurrently with, and hereby adopted by, this notice (Issues and Decision Memorandum).

Scope of the Order ⁵

⁵ See Notice of Amended Final Determination: Certain Cut-to-Length Carbon-Quality Steel Plate from India and the Republic of Korea; and Notice of Countervailing Duty Orders: Certain Cut-to-Length Carbon-Quality Steel Plate from France, India, Indonesia, Italy, and the Republic of Korea, 65 FR 6587 (February 10, 2000) (Order).

The product covered by this Order is certain cut-to-length carbon-quality steel plate. For a complete description of the scope of this order, see the Issues and Decision Memorandum.

Analysis of Comments Received

All issues raised in interested parties' briefs are addressed in the Issues and Decision Memorandum, which is hereby adopted by this notice. A list of topics discussed in the Issues and Decision Memorandum is included as an appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

Changes Since the Preliminary Results

After evaluating the comments received from interested parties and record information, we have made no changes to the net subsidy rate preliminarily calculated for Hyundai Steel in the Preliminary Results as updated in the post-preliminary analysis. However, as discussed in the section below, we have revised the rate for the non-selected companies as calculated in the Preliminary Results. For a discussion of these comments, see the Issues and Decision Memorandum.

Companies Not Selected for Individual Review

The Act and Commerce's regulations do not directly address the subsidy rate to be applied to companies not selected for individual examination where Commerce limits its examination in an administrative review pursuant to section 777A(e)(2) of the Tariff Act of 1930, as amended (the Act). However, Commerce normally determines the rates for non-selected companies in reviews in a manner that is consistent with section 705(c)(5) of the Act, which provides instructions for calculating the all-others rate in an investigation. Section 777A(e)(2) of the Act provides that “the individual countervailable subsidy rates determined under subparagraph (A) shall be used to determine the all-others rate under section 705(c)(5) {of the Act}.” Section 705(c)(5)(A) of the Act states that for companies not investigated, in general, we will determine an all-others rate by weight-averaging the countervailable subsidy rates established for each of the companies individually investigated, excluding zero and de minimis rates or any rates based solely on the facts available.

Accordingly, to determine the rate for companies not selected for individual examination, Commerce's practice is to weight average the net subsidy rates for the selected mandatory companies, excluding rates that are zero, de minimis, or based entirely on facts available.⁶ Because we have determined that Hyundai Steel received countervailing subsidies that are above de minimis and are not based entirely on facts available, we will apply Hyundai Steel's net subsidy rate to the non-selected companies Dongkuk Steel Mill Co., Ltd., BDP International and Sung Jin Steel Co., Ltd. See the Issues and Decisions Memorandum for a discussion of assigning this rate to DSM.

⁶ See, e.g., Certain Pasta from Italy: Final Results of the 13th (2008) Countervailing Duty Administrative Review, 75 FR 37386, 37387 (June 29, 2010).

Methodology

Commerce conducted this review in accordance with section 751(a)(1)(A) of the Act. For each of the subsidy programs found countervailable, we find that there is a subsidy, i.e., a government-provided financial contribution that gives rise to a benefit to the recipient, and that the subsidy is specific.⁷ For a description of the methodology underlying all of Commerce's conclusions, see the Issues and Decision Memorandum.

⁷ See sections 771(5)(B) and (D) of the Act regarding financial contribution; section 771(5)(E) of the Act regarding benefit; and section 771(5A) of the Act regarding specificity.

Final Results of Administrative Review

We determine that, for the period January 1, 2019, through December 31, 2019, the following net countervailable subsidy rates exist:

Company | Subsidy rate (percent ad valorem)
Hyundai Steel Co., Ltd | 0.56
Dongkuk Steel Mill Co., Ltd | 0.56
BDP International | 0.56
Sung Jin Steel Co., Ltd | 0.56

Disclosure

No changes were made to the preliminary and post-preliminary calculations for Hyundai Steel; therefore, there are no calculations to release for Hyundai Steel.

Assessment Rate

Pursuant to section 751(a)(1) of the Act and 19 CFR 351.212(b)(2), Commerce will determine, and U.S. Customs and Border Protection (CBP) shall assess, countervailing duties on all appropriate entries of subject merchandise in accordance with the final results of this review, for Hyundai Steel at the applicable ad valorem assessment rate listed. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Rates

In accordance with section 751(a)(2)(C) of the Act, Commerce intends to instruct CBP to collect cash deposits of estimated countervailing duties in the amounts shown for the companies listed above on shipments of subject merchandise entered, or withdrawn from warehouse, for consumption on or after the date of publication of the final results of this administrative review. For all non-reviewed firms, we will instruct CBP to continue to collect cash deposits of estimated countervailing duties at the most recent company-specific or all-others rate applicable to the company, as appropriate. These cash deposits, when imposed, shall remain in effect until further notice.

Administrative Protective Order

This notice also serves as a final reminder to parties subject to administrative protective order (APO) of their responsibility concerning the return or destruction of proprietary information disclosed under APO in accordance with 19 CFR 351.305(a)(3), which continues to govern business proprietary information in this segment of proceeding. Timely written notification of the return/destruction of APO materials or conversion to judicial protective order is hereby requested. Failure to comply with the regulations and terms of an APO is a violation subject to sanction.

Notice to Interested Parties

These final results are issued and published in accordance with sections 751(a)(1) and 777(i)(1) of the Act and 19 CFR 351.221(b)(5).

Dated: December 23, 2021.
Ryan Majerus,
Deputy Assistant Secretary for Policy and Negotiations, performing the non-exclusive functions and duties of the Assistant Secretary for Enforcement and Compliance.

Appendix

List of Topics Discussed in the Issues and Decision Memorandum

I. Summary

II. List of Issues

III. Background

IV. Scope of the Order

V. Period of Review

VI. Subsidies Valuation Information

VII. Analysis of Programs

VIII. Discussion of Comments

Comment 1: Whether the Korea Emissions Trading System is Countervailable

Comment 2: Whether Provision of Port Usage Rights at the Port of Incheon is Countervailable

Comment 3: Whether Electricity is Subsidized by the Government of the Republic of Korea

Comment 4: Whether Commerce Should Select Dongkuk Steel Mill Co., Ltd. as a Voluntary Respondent

Comment 5: Selection of a Final Rate for Dongkuk Steel Mill Co., Ltd.

IX. Recommendation

[FR Doc. 2021-28403 Filed 12-30-21; 8:45 am]

BILLING CODE 3510-DS-P